DEPARTMENT OF THE INTERIOR

Bureau of Land Management

[BLM_OR_FRN_MO4500180774]

Notice of Availability of the Proposed Resource Management Plan and Final Environmental Impact Statement for the Cascade-Siskiyou National Monument in Oregon/Washington and California

AGENCY: Bureau of Land Management.

ACTION: Notice of availability.

SUMMARY: In compliance with the National Environmental Policy Act of 1969, as amended, and the Federal Land Policy and Management Act of 1976, as amended, the Bureau of Land Management (BLM) has prepared a Proposed Resource Management Plan (RMP) and Final Environmental Impact Statement (EIS) for the Cascade-Siskiyou National Monument (CSNM) and by this notice is announcing the start of a 30-day protest period of the Proposed RMP.

DATES: This notice announces a 30-day protest period to the BLM on the Proposed RMP beginning with the date following the Environmental Protection Agency's (EPA) publication of its Notice of Availability (NOA) of the Proposed RMP/Final EIS in the Federal Register. The EPA usually publishes its NOAs on Fridays. Protests must be postmarked or electronically submitted on the BLM's ePlanning site during the 30-day protest period.

ADDRESSES: The Proposed RMP and Final EIS is available on the BLM ePlanning project website at https://eplanning.blm.gov/eplanning-ui/project/2023675/510 and at the BLM Medford District, 3040 Biddle Rd, Medford, OR 97504; and the BLM Klamath Falls Field Office, 2795 Anderson Avenue, Bldg. #25, Klamath Falls, OR 97603.

Instructions for filing a protest with the BLM for the CSNM can be found at: https://www.blm.gov/programs/planning-and-nepa/public-participation/filing-a-plan-protest and at 43 CFR 1610.5-2. Protests must be submitted at the ePlanning website listed above or to: BLM Director, Attention: Protest Coordinator (HQ210), P.O. Box 151029, Lakewood, CO 80215.

FOR FURTHER INFORMATION CONTACT: Ms. Nikki Haskett, Program Manager, telephone (458)-246-8861; address 3040 Biddle Rd, Medford, OR 97504; email blm_csnm_rmp@blm.gov. Individuals in the United States who are deaf, deafblind, hard of hearing, or have a speech disability may dial 711 (TTY, TDD, or TeleBraille) to access telecommunications relay services for contacting Ms. Haskett. Individuals outside the United States should use the relay services offered within their country to make international calls to the point-of-contact in the United States.

SUPPLEMENTARY INFORMATION: The CSNM boundary, as identified by Presidential Proclamation No. 9564, constitutes the planning area for this RMP. The planning area is 170,407 acres and includes lands within Jackson and Klamath Counties in Oregon, and Siskiyou County in California. The CSNM's decision area is the approximately 113,500 acres of BLM-administered lands within the planning area. While most of the BLM-administered lands are within the BLM Ashland and Klamath Falls Field Offices in Oregon, approximately 5,000 acres are located within the BLM Redding Field Office in California.

The BLM's current RMPs for lands in the decision area do not address all the legal mandates related to management of the congressionally designated National Conservation Lands (i.e., Soda Mountain Wilderness; the Jenny Creek and Spring Creek Wild and Scenic Rivers; the Applegate Trail, which is part of the California National Historic Trail; and the Pacific Crest National Scenic Trail) and the lands included in President Obama's enlargement of the monument boundary. In addition, some aspects of the existing RMPs covering the planning area need to be updated to be consistent with current BLM policies.

The RMP's underlying purpose (40 CFR 1502.13) is to provide a management framework, including objectives and management direction, that guides the BLM's management of the decision area to protect and restore the resources, objects, and values for which the area was designated.

Proposed Action and Alternatives

The Cascade-Siskiyou National Monument Draft RMP and EIS 90-day public comment period began on April 5, 2024, and ended on July 5, 2024. The BLM held four public meetings during the public comment period. The BLM considered and incorporated in the Proposed RMP, as appropriate, comments received from the public, consulting Tribes, cooperating agencies, and internal BLM review. Public comments resulted in the addition of clarifying text, minor changes to the existing alternatives, and a Proposed RMP that is within the range of alternatives and effects analyzed in the Draft RMP/EIS. In addition to the Proposed RMP (Alternative E), the Final EIS analyzed Alternative A (the no action alternative) and three action alternatives (Alternatives B, C, and D) from the Draft EIS.

Alternative A, the no action alternative, represents current management from the 2008 Cascade-Siskiyou National Monument Approved RMP, the 2016 Southwestern Oregon Approved RMP, and the 1993 Redding Approved RMP. In addition to the existing RMPs, there are several non-discretionary designations established by Congress that apply to lands in the planning area and are not reflected in the current RMPs but are part of the no action alternative.

Alternative B emphasizes flexibility in planning-level direction, promotes intensive, active management to protect monument resources, and maximizes the potential for an array of discretionary actions that are compatible with the protection of CSNM objects and values.

Alternative C emphasizes flexibility in planning-level direction but promotes a moderate level of active management for protection, maintenance, and restoration of CSNM resources, and sets some limitations on management actions and tools available.

Alternative D would rely primarily on natural ecosystem processes that would allow plant community dynamics to unfold without active intervention. Exceptions include the management of young conifer stands (plantations) that are a product of past timber harvest and thinning around legacy trees and along wildfire evacuation routes.

Since the publication of the Draft RMP/EIS, the BLM has developed Alternative E, the Proposed RMP, based largely on Alternative C, the preferred alternative in the Draft RMP/EIS, and to a lesser extent components from the other alternatives. Similar to Alternative C, the Proposed RMP emphasizes flexibility in planning-level direction but promotes a moderate level of active management for protection, maintenance, and restoration of CSNM resources, and sets some limitations on management actions and tools available. The Proposed RMP would not carry forward any Areas of Critical Environmental Concern (ACEC) or Research Natural Areas. The BLM determined that special management attention would be provided by management direction in the plan from other designations and management areas that apply monument-wide and would adequately protect the resource or value. The BLM determined that the entire monument holds historic, cultural, fish and wildlife, and scenic values that meet the relevance and importance criteria for an ACEC. The Proposed RMP/Final EIS are designed to protect the monument's objects of scientific and historic interest outlined in Presidential Proclamations 7318 and 9564, which would safeguard these resources or values.

The Proposed RMP was developed based on the consideration of public comments, cooperating agency input, and Tribal consultation; updates to the best available science and information; and by combining elements of the alternatives analyzed in the Draft RMP/EIS. Alternative E, the Proposed RMP, is within the range of alternatives considered in the Draft RMP/EIS.

In addition to the analysis of Alternative E, the BLM made other changes that are summarized in Appendix T: Summary of Notable Changes.

Protest of the Proposed RMP

The BLM planning regulations state that any person who participated in the preparation of the RMP and has an interest that will or might be adversely affected by approval of the Proposed RMP may protest its approval to the BLM Director. Protest on the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed to the appropriate address, as set forth in the ADDRESSES section earlier or submitted electronically through the BLM ePlanning project website as described previously. Protests submitted electronically by any means other than the ePlanning project website will be invalid unless a protest is also submitted as a hard copy. The BLM Director will render a written decision on each protest. The Director's decision shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP.

(Authority: 40 CFR 1501.9, 40 CFR 1506.9, 43 CFR 1610.2, 43 CFR 1610.5)

Barry R. Bushue,
State Director.

[FR Doc. 2024-23440 Filed 10-10-24; 8:45 am]

BILLING CODE 4331-24-P